COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add to the Procurement List products and services to be furnished by nonprofit agencies employing persons who are blind or have other severe disabilities.

COMMENTS MUST BE RECEIVED ON OR BEFORE: 3/1/2010.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to provide the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the products and services to the Government.

2. If approved, the action will result in authorizing small entities to provide the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

M.R. Laundry Products

NSN: MR 1103—Heavy Duty Laundry Bag.

NSN: MR 1104—Pop Up Mesh Hamper.

NSN: MR 1105—Utility Pop Up Basket.

NPA: Industries for the Blind, Inc., West Allis, WI.

Contracting Activity: Military Resale-Defense Commissary Agency, Fort Lee, VA.

Coverage: C-List items for the requirements of the Military Resale, Defense Commissary Agency.

Services

Service Type/Locations: Develop Rapid Prototypes

Alphapointe Association for the Blind, 7501 Prospect, Kansas City, MO.

Northeastern Association of the Blind at Albany, 301 Washington Avenue, Albany, NY.

Association for the Blind and Visually Impaired & Goodwill Ind. of Greater Rochester, Rochester, NY, 422 South Clinton Avenue, Rochester, NY.

Blind Industries and Services of Maryland, 3345 Washington Blvd., Baltimore, MD.

Industries of the Blind, Inc., 920 West Lee Street, Greensboro, NC.

Winston-Salem Industries for the Blind, 7730 North Point Drive, Winston-Salem, NC.

LC Industries, 4500 Emperor Blvd., Durham, NC.

Lions Services, Inc., 4600 North Tryon Street, Charlotte, NC.

San Antonio Lighthouse for the Blind, 2305 Roosevelt Avenue, San Antonio, TX.

The Lighthouse for the Blind, Inc. (Seattle Lighthouse), 2501 South Plum Street, Seattle, WA.

Arkansas Lighthouse for the Blind, 6918 Murray Street, Little Rock, AR.

NPAs: National Industries for the Blind, Alexandria, VA (Prime Contractor).

Alphapointe Association for the Blind, Kansas City, MO.

Northeastern Association of the Blind at Albany, Inc., Albany, NY.

Association for the Blind and Visually Impaired & Goodwill Ind. Of Greater Rochester, Rochester, NY.

Blind Industries & Services of Maryland, Baltimore, MD.

Industries of the Blind, Inc., Greensboro, NC.

Winston-Salem Industries for the Blind, Winston-Salem, NC.

L.C. Industries For The Blind, Inc., Durham, NC.

Lions Services, Inc., Charlotte, NC.

San Antonio Lighthouse for the Blind, San Antonio, TX.

The Lighthouse for the Blind, Inc. (Seattle Lighthouse), Seattle, WA.

The Arkansas Lighthouse for the Blind, Little Rock, AR.

Contracting Activity: Department of Homeland Security, U.S. Coast Guard, CG-9, Washington, DC.

Service Type/Locations: Shredding & Destruction of Document & Recycling, U.S. Army Corps of Engineers, Middle East District: 201 Prince Frederick Dr., Winchester, VA.

Records Holding Area (RHA): 205 Brooke Rd., Winchester, VA.

Transatlantic Division: 255 Fort Collier Rd., Winchester, VA.

NPA: Athelas Institute, Inc., Columbia, MD.

Contracting Activity: Dept of the Army, XU W31R USAEN TRANSATL PGN CTR, Winchester, VA.

Barry S. Lineback,
Director, Business Operations.

[FR Doc. 2010-1815 Filed 1-28-10; 8:45 am]

BILLING CODE 6353-01-P